DEPARTMENT OF COMMERCE

[Foreign-Trade Zones Board]

[B-100-2013]

Foreign-Trade Zone (FTZ) 20—Suffolk, Virginia, Notification of Proposed Production Activity, Grandwatt Electric Corporation, (Portable Light Towers and Generator Sets), Suffolk, Virginia

The Virginia Port Authority, grantee of FTZ 20, submitted a notification of proposed production activity to the FTZ Board on behalf of Grandwatt Electric Corporation (GEC), located in Suffolk, Virginia. The notification conforming to the requirements of the regulations of the FTZ Board (15 CFR 400.22) was received on November 21, 2013.

The GEC facility is located within Site 36 of FTZ 20. The facility is used for the production of portable light towers and diesel-powered generator sets for residential, commercial, and industrial applications. Pursuant to 15 CFR 400.14(b), FTZ activity would be limited to the specific foreign-status components and specific finished products described in the submitted notification (as described below) and subsequently authorized by the FTZ Board.

Production under FTZ procedures could exempt GEC from customs duty payments on the foreign status components used in export production. On its domestic sales, GEC would be able to choose the duty rates during customs entry procedures that apply to portable light towers (2.5 or 6%) and generator sets (2.5%) for the foreign status inputs noted below. Customs duties also could possibly be deferred or reduced on foreign status production equipment.

The components sourced from abroad include: Diesel engines; base frames; anti-vibration mounts; fuel tank baffles; batteries; battery wire and boxes; plastic fuel tanks; metal filters; pipes (parts of generators); radiators and caps; tow bar assemblies; guide pulleys; winches; axles; tire-rim assemblies; clips; pins; brackets; bolts; junction plates; tower masts; shaped springs; shaped pipes; brackets; mufflers; stabilizer legs; locks; top covers; air springs; door plates; stainless steel hinges; ventilate boards; output socket shrouds; printed circuit boards (motherboards); bottom/door boards; fenders; end plates; industrial gas turbines; turbine bases; acoustic enclosures; gearboxes (transmissions); central posts; connecting frames; ballast assemblies; wire harnesses; light towers; traction connectors; and tool carts (duty rate ranges from free to 5.7%).

Public comment is invited from interested parties. Submissions shall be addressed to the FTZ Board's Executive Secretary at the address below. The closing period for their receipt is January 13, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For Further Information Contact: Pierre Duy at Pierre.Duy@trade.gov or (202) 482-1378.

Dated: November 21, 2013.
Andrew McGilvray,
Executive Secretary.

[FR Doc. 2013-28830 Filed 12-3-13; 8:45 am]

BILLING CODE 3510-DS-P